ENVIRONMENTAL PROTECTION AGENCY

[FRL-10007-71-OMS]

Request for Nominations to the National and Governmental Advisory Committees to the U.S. Representative to the Commission for Environmental Cooperation

AGENCY: Environmental Protection Agency (EPA).

ACTION: Notice of Request for Nominations.

SUMMARY: The U.S. Environmental Protection Agency (EPA) is inviting nominations from a diverse range of qualified candidates to be considered for appointment to fill vacancies on the National Advisory Committee (NAC) and the Governmental Advisory Committee (GAC) to the U.S. Representative to the Commission for Environmental Cooperation (CEC). Vacancies on these two committees are expected to be selected by the spring of 2020. Please submit nominations by May 8, 2020. Additional sources may be utilized in the solicitation of nominees.

SUPPLEMENTARY INFORMATION: The National Advisory Committee and the Governmental Advisory Committee advise the EPA Administrator in his capacity as the U.S. Representative to the CEC Council. The Committees are authorized under Articles 17 and 18 of the North American Agreement on Environmental Cooperation (NAAEC). Implementation Act, Public Law 103-182, and as directed by Executive Order 12915, entitled “Federal Implementation of the North American Agreement on Environmental Cooperation.” The NAC and GAC are continued under the authority of Executive Order 13889, dated September 27, 2019, and operates under the provisions of the Federal Advisory Committee Act (FACA), 5 U.S.C. App. 2. The Committees are responsible for providing advice to the United States Representative on a wide range of strategic, scientific, technological, regulatory and economic issues related to implementation and further elaboration of the NAAEC. The National Advisory Committee consists of 15 representatives from environmental non-profit groups, business and industry, and educational institutions. The Governmental Advisory Committee consists of 14 representatives from state, local, and tribal governments. Members are appointed by the EPA Administrator for a two-year term. The committees usually meet 3 times per year and the average workload for committee members is approximately 10 to 15 hours per month. Members serve on the committees in a voluntary capacity.

Although we are unable to provide compensation or an honorarium for your services, you may receive travel and per diem allowances, according to applicable federal travel regulations. EPA is seeking nominations from various sectors, i.e., for the NAC we are seeking nominees from academia, business and industry, and non-governmental organizations; for the GAC we are seeking nominees from state, local and tribal government sectors. Nominees will be considered according to the mandates of FACA, which requires committees to maintain diversity across a broad range of constituencies, sectors, and groups. EPA values and welcomes diversity. In an effort obtain nominations of diverse candidates, EPA encourages nominations of women and men of all racial and ethnic groups. The following criteria will be used to evaluate nominees:

• Professional knowledge of the subjects examined by the committees, including trade & environment issues, the USMCA and ECA, the NAFTA and NAAEC, and the CEC.

• Represent a sector or group involved in trilateral environmental policy issues.

• Senior-level experience in the sectors represented on both committees.

• A demonstrated ability to work in a consensus building process with a wide range of representatives from diverse constituencies.

Nominations must include a resume and a short biography describing the professional and educational qualifications of the nominee, as well as the nominee's current business address, email address, and daytime telephone number. Interested candidates may self-nominate. Anyone interested in being considered for nomination is encouraged to submit their application materials by May 8, 2020. To help the Agency in evaluating the effectiveness of its outreach efforts, please tell us how you learned of this opportunity. Please be aware that EPA's policy is that, unless otherwise prescribed by statute, members generally are appointed for two-year terms.

ADDRESSES: Submit nominations to: Oscar Carrillo, Designated Federal Officer, Office of Diversity, Advisory Committee Management and Outreach, U.S. Environmental Protection Agency (1601-M), 1200 Pennsylvania Avenue NW, Washington, DC 20460. You may also email nominations with subject line COMMITTEE RESUME 2020 to carrillo.oscar@epa.gov.

FOR FURTHER INFORMATION CONTACT: Oscar Carrillo, Designated Federal Officer, U.S. Environmental Protection Agency (1601-M), Washington, DC 20460; telephone (202) 564-0347; fax (202) 564-8129; email carrillo.oscar@epa.gov.

Dated: April 6, 2020.
Oscar Carrillo,
Program Analyst.

[FR Doc. 2020-07527 Filed 4-9-20; 8:45 am]

BILLING CODE 6560-50-P